DEPARTMENT OF EDUCATION

Notice of Proposed Information Collection Requests

AGENCY: Department of Education.

ACTION: Correction Notice.

SUMMARY: On August 6, 2002, the Department of Education published a 60-day public comment period notices for the information collections, “Annual Progress Reporting Form for the American Indian Vocational Rehabilitation Services (AIVRS) Program.” In the Abstract, it states that copies of the proposed information collection request may be accessed from http://edicsweb.ed.gov, by selecting the “Browse Pending Collections” link and by clicking on link number 2064. This link number should be 2121. The Leader, Regulatory Information Management, Office of the Chief Information Officer, hereby issues a correction notice as required by the Paperwork Reduction Act of 1995.

FOR FURTHER INFORMATION CONTACT: Sheila Carey at her e-mail address Sheila.Carey@ed.gov.

Dated: August 20, 2002.
John D. Tressler,
Leader, Regulatory Information Management Group, Office of the Chief Information Officer.

[FR Doc. 02-21624 Filed 8-23-02; 8:45 am]

BILLING CODE 4000-01-P